DEPARTMENT OF AGRICULTURE

Animal and Plant Health Inspection

9 CFR Part 145

[Docket No. APHIS-2009-0031]

RIN 0579-AD21

National Poultry Improvement Plan and Auxiliary Provisions

Correction

In rule document 2011-6539 appearing on pages 15791-15798 in the issue of Tuesday, March 22, 2011, make the following corrections:

§ 145.52 [Corrected]

On page 15794, in the first column, immediately following the text of § 145.52, add the following asterisks:

* * * * *

[FR Doc. C1-2011-6539 Filed 4-20-11; 8:45 am]

BILLING CODE 1505-01-D